DEPARTMENT OF COMMERCE

National Oceanic and Atmospheric Administration

RIN 0648-XA657

North Pacific Fishery Management Council; Public Meetings

AGENCY: National Marine Fisheries Service (NMFS), National Oceanic and Atmospheric Administration (NOAA), Commerce.

ACTION: Notice of public meetings of the North Pacific Fishery Management Council and its advisory committees.

SUMMARY: The North Pacific Fishery Management Council (Council) and its advisory committees will hold public meetings, September 26-October 4, 2011 in Dutch Harbor, Alaska.

DATES: The Council will begin its plenary session at 8 a.m. on Wednesday, September 28, 2011 continuing through Tuesday, October 4, 2011. The Council's Advisory Panel (AP) will begin at 8 a.m., Monday, September 26, 2011 and continue through Friday, September 30, 2011. The Scientific Statistical Committee (SSC) will begin at 8 a.m. on Monday, September 26, 2011 and continue through Wednesday, September 28, 2011. All meetings are open to the public, except executive sessions.

ADDRESSES: The Council will meet at Grand Aleutian Hotel, Makushin Room, the SSC will meet at Grand Aleutian Hotel, Shashaldin Room, the Advisory Panel will meet at the Unisea Central Building (there will be a shuttle between the two meeting locations).

Council address: North Pacific Fishery Management Council, 605 W. 4th Avenue, Suite 306, Anchorage, AK 99501-2252.

FOR FURTHER INFORMATION CONTACT: David Witherell, Council staff; telephone: (907) 271-2809.

SUPPLEMENTARY INFORMATION:

Council Plenary Session

The agenda for the Council's plenary session will include the following issues. The Council may take appropriate action on any of the issues identified.

Reports

1. Executive Director's Report

NMFS Management Report (including Gulf of Alaska Pacific cod sector split report).

Alaska Department of Fish & Game Report (including Board of Fisheries cod proposals).

NOAA Enforcement Report.

United States Coast Guard Report.

United States Fish & Wildlife Service Report.

Protected Species Report (including Committee of Independent Experts terms of reference).

2. Salmon Fishery Management Plan (FMP): Report on the Salmon Workshop; Initial Review of a revised Salmon FMP.

3. Groundfish Harvest Specifications: Adopt proposed specifications for 2012; Initial review of analysis to reduce Gulf of Alaska (GOA) halibut Prohibited Species Catch (PSC) limits; Review white paper on Individual Bycatch Quotas (IBQs).

4. Bering Sea Aleutian Island (BSAI) Crab Issues: Initial review of Crab Electronic Data Reporting (EDR); Report from stakeholders on crab 5 year review issues (Delayed until December); Approve catch specifications/approve BSAI Crab Stock Assessment Fishery Evaluation (SAFE) report; Final action on Pribilof Blue King Crab Rebuilding plan; Review alternatives for Tanner Crab Rebuilding.

5. Observer Program: Review Observer Advisory Committee report; Review Restructuring Regulations.

6. Halibut Management: Initial Review/Final action on Community Quota Entity (CQE) vessel use caps; Initial Review of CQE in Area 4B; Discussion/direction on Area 4B Fish-up.

7. Groundfish Issues: Discussion paper on vessel replacement Bering Sea Freezer Longliners (Delayed till December); Draft regulations for freezer longliner Catch Monitoring and Enforcement; Discussion paper on GOA Pacific Cod A-season opening dates (Delayed till December); Discussion paper on GOA pollock D-season; Discussion paper on Bering Sea & Aleutian Island Pacific Cod split; Review/approve Halibut mortality on trawlers EFP (T).

8. Staff Tasking: Review Committees and tasking.

9. Other Business

The SSC agenda will include the following issues:

1. Salmon FMP.

2. Groundfish Specifications.

3. BSAI Crab Issues.

4. Halibut Mortality on trawlers EFP.

The Advisory Panel will address most of the same agenda issues as the Council, except #1 reports. The Agenda is subject to change, and the latest version will be posted at http://www.alaskafisheries.noaa.gov/npfmc/.

Although non-emergency issues not contained in this agenda may come before these groups for discussion, in accordance with the Magnuson-Stevens Fishery Conservation and Management Act (Magnuson-Stevens Act), those issues may not be the subject of formal action during these meetings. Actions will be restricted to those issues specifically identified in this notice and any issues arising after publication of this notice that require emergency action under Section 305(c) of the Magnuson-Stevens Act, provided the public has been notified of the Council's intent to take final action to address the emergency.

Special Accommodations

These meetings are physically accessible to people with disabilities. Requests for sign language interpretation or other auxiliary aids should be directed to Gail Bendixen at (907) 271-2809 at least 7 working days prior to the meeting date.

Dated: August 18, 2011.
Tracey L. Thompson,
Acting Director, Office of Sustainable Fisheries, National Marine Fisheries Service.

[FR Doc. 2011-21582 Filed 8-23-11; 8:45 am]

BILLING CODE 3510-22-P